DEPARTMENT OF DEFENSE

Office of the Secretary of Defense

Meeting of the Board of Regents of the Uniformed Services University of the Health Sciences

AGENCY: Uniformed Services University of the Health Sciences (USU), DoD.

ACTION: Quarterly Meeting Notice.

SUMMARY: The actions that will take place include the approval of minutes from the Board of Regents Meeting held May 19, 2006; acceptance of administrative reports; approval of faculty appointments and promotions; and the awarding of post-baccalaureate masters and doctoral degrees in the biomedical sciences and public health. The President, USU; Dean, USU School of Medicine; and Acting Dean, USU Graduate School of Nursing will also present reports. These actions are necessary for the University to remain an accredited medical school and to pursue our mission, which is to provide trained health care personnel to the Uniformed Services.

DATES: July 31, 8 a.m. to 2 p.m.

ADDRESSES: Henry M. Jackson Foundation for the Advancement of Military Medicine, 1401 Rockville Pike, Suite 600, Rockville, MD 20852.

FOR FURTHER INFORMATION CONTACT: Capt Jane E. Mead, NC, USN, Executive Secretary, Board of Regents, 301.295.0962.

Dated: July 3, 2006.
L.M. Bynum,
OSD Federal Register Liaison Officer, DoD.

[FR Doc. 06-6120 Filed 7-10-06; 8:45 am]

BILLING CODE 5001-06-M